DEPARTMENT OF AGRICULTURE

Animal and Plant Health Inspection Service

[Docket No. APHIS-2010-0108]

Availability of an Environmental Assessment for a Biological Control Agent for Arundo donax

AGENCY: Animal and Plant Health Inspection Service, USDA.

ACTION: Notice of availability and request for comments.

SUMMARY: We are advising the public that the Animal and Plant Health Inspection Service has prepared an environmental assessment relative to the control of Arundo donax (giant reed, Carrizo cane). The environmental assessment considers the effects of, and alternatives to, the release of Arundo scale into the continental United States for use as a biological control agent to reduce the severity of Arundo donax infestations. We are making the environmental assessment available to the public for review and comment.

DATES: We will consider all comments that we receive on or before December 13, 2010.

ADDRESSES: You may submit comments by either of the following methods:

• Federal eRulemaking Portal: Go to http://www.regulations.gov/fdmspublic/component/main?main=DocketDetail&d=APHIS-2010-0108 to submit or view comments and to view supporting and related materials available electronically.

• Postal Mail/Commercial Delivery: Please send one copy of your comment to Docket No. APHIS-2010-0108, Regulatory Analysis and Development, PPD, APHIS, Station 3A-03.8, 4700 River Road Unit 118, Riverdale, MD 20737-1238. Please state that your comment refers to Docket No. APHIS-2010-0108.

Reading Room: You may read any comments that we receive on the environmental assessment in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Shirley A. Wager-Page, Chief, Pest Permitting Branch, PPQ, APHIS, 4700 River Road Unit 133, Riverdale, MD 20737-1237; (301) 734-8453.

SUPPLEMENTARY INFORMATION:

Background

The Animal and Plant Health Inspection Service (APHIS) is proposing to issue permits for the release of Arundo scale, Rhizaspidiotus donacis (Leonardi), into the continental United States for use as a biological control agent to reduce the severity of Arundo donax infestations.

A. donax is a highly invasive, bamboo-like weed that was introduced to North America in the early 1500s for its fiber uses. It is among the fastest growing plants in the continental United States, making it a severe threat to riparian areas, where it causes erosion, damages bridges, alters channel morphology, increases costs for chemical and mechanical control along transportation corridors, and impedes law enforcement activities along international borders. Additionally, A. donax consumes excessive amounts of water, competing for water resources in arid regions where these resources are critical to the environment, agriculture, and municipal users.

Existing A. donax management options include herbicides, prescribed fires, biomass removal, and other methods. However, these management measures are expensive, temporary, and have impacts on species other than A. donax. Therefore, APHIS is proposing to issue permits for the release of Arundo scale into the continental United States in order to reduce the severity and extent of A. donax infestations.

The proposed biological control agent, Arundo scale, is one of the most damaging insects to A. donax in its native range. The scale attacks the rhizome and developing underground buds of A. donax by feeding on cells that carry out photosynthesis and cellular respiration, resulting over time in gradual thinning, leaf reduction, and a sickly, yellowish-clouded appearance of the weed. While Arundo scale may not be singularly successful in reducing the A. donax population in the continental United States, its use is expected to be effective in combination with other control methods or biological control agents that may be released in the future.

APHIS' review and analysis of the proposed action are documented in detail in an environmental assessment (EA) entitled “Field Release of the Arundo Scale, Rhizaspidiotus donacis (Hemiptera: Diaspididae), an Insect for Biological Control of Arundo donax (Poaceae) in the Continental United States” (September 2010). We are making the EA available to the public for review and comment. We will consider all comments that we receive on or before the date listed under the heading DATES at the beginning of this notice.

The EA may be viewed on the #Regulations.gov Web site or in our reading room (see ADDRESSES above for instructions for accessing Regulations.gov and information on the location and hours of the reading room). You may request paper copies of the EA by calling or writing to the persons listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, November 2010.
Kevin Shea,
Acting Administrator, Animal and Plant Health Inspection Service.

[FR Doc. 2010-28471 Filed 11-10-10; 8:45 am]

BILLING CODE 3410-34-P